FEDERAL MARITIME COMMISSION

Performance Review Board

AGENCY: Federal Maritime Commission.

ACTION: Notice.

SUMMARY: Notice is hereby given of the names of the members of the Performance Review Board.

FOR FURTHER INFORMATION CONTACT: Harriette H. Charbonneau, Director of Human Resources, Federal Maritime Commission, 800 North Capitol Street, NW., Washington, DC 20573.

SUPPLEMENTARY INFORMATION: Sections 4314(c)(1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

Richard A. Lidinsky, Jr.,
Chairman.

The Members of the Performance Review Board Are:

1. Joseph E. Brennan, Commissioner.

2. Rebecca F. Dye, Commissioner.

3. Clay G. Guthridge, Administrative Law Judge.

4. Florence A. Carr, Director, Bureau of Trade Analysis.

5. Karen V. Gregory, Secretary.

6. Vern W. Hill, Director, Bureau of Enforcement.

7. Peter J. King, General Counsel.

8. Sandra L. Kusumoto, Director, Bureau of Certification and Licensing.

9. Austin L. Schmitt, Director of Operations.

[FR Doc. E9-22983 Filed 9-22-09; 8:45 am]

BILLING CODE 6730-01-P